DEPARTMENT OF EDUCATION

[CFDA No.: 84.305M]

Institute of Education Sciences; Correction

ACTION: Notice inviting applications for grants to support education research for fiscal years 2003; Correction.

On January 6, 2003, a notice inviting applications for grants to support education research was published in the Federal Register (68 FR 656). On page 656, in the table, the column Due Date for Optional Letter of Intent states that the deadline for transmittal of the letter of intent is “March 26, 2003” for the Teacher Quality Research program (84.305M). The Due Date for Optional Letter of Intent is corrected to read “March 6, 2003.”

FOR FURTHER INFORMATION CONTACT: Harold Himmelfarb, U.S. Department of Education, 555 New Jersey Avenue, NW., room 510f, Washington, DC 20208. Telephone: (202) 219-2031 or via the Internet: harold.himmelfarb@ed.gov.

If you use a telecommunications device for the deaf (TDD), you may call the Federal Information Relay Service (FIRS) at 1-800-877-8339.

Individuals with disabilities may obtain this document in an alternative format (e.g., Braille, large print, audiotape, or computer diskette) on request to the contact persons listed under FOR FURTHER INFORMATION CONTACT.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 9501 et seq. (the “Education Sciences Reform Act of 2002”, Title 1 of Public Law 107-279, November 5, 2002).

Dated: January 30, 2003.
Grover J. Whitehurst,
Director, Institute of Education Sciences.

[FR Doc. 03-2663 Filed 2-4-03; 8:45 am]

BILLING CODE 4000-01-P